DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: National Fire Programs (NFP) Stakeholders Interview.

OMB Number: 1660-NEW14.

Abstract: Consistent with performance-based management practices, the NFP is developing a comprehensive Strategic Business and Implementation Plan. This information collection will capture stakeholders' perspective critical to the NFP's ability to plan effectively and deliver demand-driven products and services. Data findings will be used to: (1) Support the development of the Strategic Business and Implementation Plan, and (2) set customer service standards.

Affected Public: State, local and tribal governments and not-for-profit organizations.

Number of Respondents: 50 respondents.

Estimated Time per Respondent: 1 hour.

Estimated Total Annual Burden Hours: 50 burden hours.

Frequency of Response: Once.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before April 21, 2005.

FOR FURTHER INFORMATION CONTACT: Requests for additional information or copies of the information collection should be made to Muriel B. Anderson, Section Chief, Records Management, FEMA at 500 C Street, SW., Room 316, Washington, DC 20472, facsimile number (202) 646-3347, or e-mail address FEMA-Information-Collections@dhs.gov.

Dated: March 10, 2005.
George S. Trotter,
Acting Branch Chief, Information Resources Management Branch, Information Technology Services Division.

[FR Doc. 05-5567 Filed 3-21-05; 8:45 am]

BILLING CODE 9010-17-P